DEPARTMENT OF HEALTH AND HUMAN SERVICES

Centers for Disease Control and Prevention

[60Day-09-0920-09BQ]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Examining In-vehicle Exposures to Air Pollutants and Corresponding Health Outcomes of Commuters—New—National Center for Environmental Health, (NCEH) and Agency for Toxic Substances and Disease Registry (ATSDR), Centers for Disease Control and Prevention, (CDC).

Background and Brief Description

Numerous studies have found associations between ambient fine particulate matter (PM2.5) and adverse cardiovascular outcomes. Several recent epidemiologic studies suggest that vehicle-related emissions, in particular, may be linked to many of the these adverse effects and that specific sub-populations may be more susceptible to health risks due to their enhanced exposures to vehicle-related PM2.5 sources. Commuters are a potentially susceptible, yet poorly characterized, sub-population. Importantly, recent epidemiologic studies indicate that specific sub-groups, including those with asthma, may be at risk to cardiorespiratory health effects due to their pre-existing health condition. A more complete understanding of in-vehicle exposures for the commuter population, especially those with asthma, is therefore becoming increasingly necessary as commuting durations and roadway congestion have steadily increased throughout the U.S. during the last 20 years. The National Center for Environmental Health (NCEH), Centers for Disease Control and Prevention (CDC) will conduct this study to characterize in-vehicle exposures to traffic-related air pollutants among commuters, with and without asthma, and any health impacts that these exposures may have on the commuter.

A total of 40 participants (20 adults with physician-diagnosed asthma and 20 healthy adults) living in the Atlanta metro area will be recruited for participation in this study. Participants will be excluded if they meet specific criteria including: ever being diagnosed with severe asthma, ever suffering a myocardial infarction, smoking tobacco products, or ever being diagnosed with a pulmonary disease such as emphysema, COPD, or any type of lung cancer.

Approximately one week prior to their scheduled commute, participants will complete a one-time baseline questionnaire to assess medical history and general exposures. Additionally, a short symptom diary recording any respiratory symptoms will be completed by the participant each day for the seven days prior to the commute and on the day of the commute. On the day of the planned commute, health measurements for lung function, lung inflammatory markers, heart rate, and biomarkers of systemic inflammation will also be conducted by a trained field technician. In-vehicle exposures to particulate matter and other air pollutants will then be measured for all participants during their commute. After the commute, the symptom diary and health measurements will be conducted again to assess any potential changes in respiratory and cardiovascular health effects. The information learned from the health measurements and diary entries before and after the commute will be important in better understanding the potential acute health impacts associated with exposures to in-vehicle traffic pollutants and respiratory and cardiovascular health, and whether urban commuters—especially those with asthma—should be viewed as a susceptible sub-population given their enhanced exposures to PM2.5 and gas-phased pollutants.

There is no cost to participants other than their time.

Estimated Annualized Burden Hours
Instrument type | Respondents | Number of respondents | Number of responses per respondent | Average burden per response (in hours) | Total burden (in hours)
Baseline questionnaire | Eligible participants with and without asthma | 40 | 1 | 30/60 | 20
Symptom diary | Eligible participants with and without asthma | 40 | 8 | 5/60 | 27
Total |  |  |  |  | 47

Dated: May 26, 2009.
Maryam I. Daneshvar,
Acting Reports Clearance Officer, Centers for Disease Control and Prevention.

[FR Doc. E9-12746 Filed 6-1-09; 8:45 am]

BILLING CODE 4163-18-P